NUCLEAR REGULATORY COMMISSION

[NRC-2015-0063]

Reassessment of NRC's Dollar Per Person-Rem Conversion Factor Policy

AGENCY: Nuclear Regulatory Commission.

ACTION: Draft NUREG; request for comment.

SUMMARY: The U.S. Nuclear Regulatory Commission (NRC) is issuing for public comment draft NUREG-1530, “Reassessment of NRC's Dollar Per Person-Rem Conversion Factor Policy, Revision 1.” This proposed revision to NUREG-1530 would revise the dollar per person-rem conversion factor. The NRC uses the dollar per person-rem conversion factor in cost-benefit analyses to determine the monetary valuation of the consequences associated with radiological exposure and establishes this factor by multiplying a value of a statistical life (VSL) coefficient by a nominal risk coefficient.

DATES: Submit comments by November 3, 2015. Comments received after this date will be considered if it is practical to do so, but the Commission is able to ensure consideration only for comments received on or before this date.

ADDRESSES: You may submit comments by any of the following methods:

• Federal Rulemaking Web site: Go to http://www.regulations.gov and search for Docket ID NRC-2015-0063. Address questions about NRC dockets to Carol Gallagher; telephone: 301-415-3463; email: Carol.Gallagher@nrc.gov. For technical questions, contact the individual listed in the FOR FURTHER INFORMATION CONTACT section of this document.

• Mail comments to: Cindy K. Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Alysia Bone, Office of Nuclear Reactor Regulation, U.S. Nuclear Regulatory Commission, Washington, DC 20555-0001; telephone: 301-415-1034, email: Alysia.Bone@nrc.gov.

SUPPLEMENTARY INFORMATION:

I. Obtaining Information and Submitting Comments

A. Obtaining Information

Please refer to Docket ID NRC-2015-0063 when contacting the NRC about the availability of information for this action. You may obtain publicly-available information related to this action by any of the following methods:

• Federal Rulemaking Web site: Go to http://www.regulations.gov and search for Docket ID NRC-2015-0063.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft NUREG-1530, Revision 1, “Reassessment of NRC's Dollar per Person-Rem Conversion Factor Policy” is available in ADAMS under Accession No. ML15237A211.

• NRC's PDR: You may examine and purchase copies of public documents at the NRC's PDR, Room O1-F21, One White Flint North, 11555 Rockville Pike, Rockville, Maryland 20852.

B. Submitting Comments

Please include Docket ID NRC-2015-0063 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

This proposed revision to NUREG-1530 would revise the dollar per person-rem conversion factor. Revision 0 to NUREG-1530 was published in December 1995 (ADAMS Accession No. ML063470485). The NRC uses the dollar per person-rem conversion factor in cost-benefit analyses to determine the monetary valuation of the consequences associated with radiological exposure and establishes this factor by multiplying a VSL factor by a nominal risk coefficient. Revision 0 to NUREG-1530 set the dollar per person-rem value at $2,000. This number resulted from the multiplication of the VSL ($3 million) by the risk coefficient for stochastic health effects (7.0 × 10⁻⁴ per person-rem).

This proposed revision to NUREG-1530 would make five main changes. First, the revision to NUREG-1530 would revise the dollar per person-rem conversion factor to $5,100 per person-rem. The value is based on an updated VSL of $9.0 million and a nominal risk coefficient factor of 5.7 × 10⁻⁴ per person-rem. The VSL estimate is derived from the average of both the U.S. Department of Transportation's (DOT) and the U.S. Environmental Protection Agency's VSL in 2014 dollars. The nominal risk coefficient value is from the International Commission on Radiological Protection Publication No. 103.¹

¹ ICRP, 2007. The 2007 Recommendations of the International Commission on Radiological Protection. ICRP Publication 103. Ann. ICRP 37 (2-4).

Second, the NRC would also adopt low- and high-VSL estimates. The NRC would adopt a low-VSL estimate of $5.3 million and a high-VSL estimate of $13.2 million. These estimates are derived from the median of low- and high-VSL estimates from DOT, U.S. Department of Homeland Security, and Office of Management and Budget. These values will create low- and high-dollar per person-rem estimates of $3,000 and $7,500, respectively.

Third, this revision would indicate that the staff will round to two significant figures instead of simply rounding to the nearest thousand dollar value. Historically, the NRC has rounded this number to the nearest thousand dollars for the purposes of dollar per person-rem estimates. Given the large uncertainties inherent in this approach, updates would have little to no impact on this value between periodic baseline reviews.

Fourth, this revision would also establish a methodology for keeping the dollar per person-rem conversion factor up-to-date. Appendix A of the NUREG has a worksheet template that provides a format for calculating updated dollar per person-rem values. The NUREG also would provide procedures for re-baselining the dollar per person-rem conversion factor.

Finally, this revision would provide guidance to the NRC staff on when to use a higher dollar per person-rem factor in accident sequences. On a case-by-case basis, the NRC staff should use a Dose and Dose Rate Effectiveness Factor for calculating dollar per person-rem values to a portion of the affected population.

The NRC staff held a Category 3 public meeting on April 2, 2015, to discuss the update to NUREG-1530. The NRC presentation can be found in ADAMS under Accession No. ML15086A112, and the meeting summary can be found in ADAMS under Accession No. ML15098A649. In response to this meeting, the Nuclear Energy Institute submitted a letter to the NRC, which provided feedback on the proposed update. This letter and the associated attachement can be found at ADAMS Accession Nos. ML15126A489 and ML15126A498, respectively.

Dated at Rockville, Maryland, this 27th day of August, 2015.
For the Nuclear Regulatory Commission.
Lawrence E. Kokajko,
Director, Division of Policy and Rulemaking Office of Nuclear Reactor Regulation.

[FR Doc. 2015-22050 Filed 9-3-15; 8:45 am]

BILLING CODE 7590-01-P